DEPARTMENT OF EDUCATION

Notice of Submission for OMB Review; Institute of Education Sciences; 2012-13 Teacher Follow-Up Survey (TFS:2013) and Principal Follow-Up Survey (PFS:2013) to the Schools and Staffing Survey (SASS)

SUMMARY: This request from the National Center for Education Statistics (NCES), of the U.S. Department of Education (ED), is for clearance for the full scale data collection for the 2012-13 Teacher Follow-up Survey (TFS:2013) and Principal Follow-up Survey (PFS:2013) to the 2011-12 Schools and Staffing Survey (SASS:2012). The seventh cycle of SASS (2011-12) is currently being conducted and the proposed TFS:2013 will be the seventh corresponding cycle of TFS, while PFS:2013 will be the second cycle of PFS. The Schools and Staffing Survey (SASS) is an in-depth, nationally-representative survey of first through twelfth grade public and private school teachers, principals, schools, library media centers, and school districts. Kindergarten teachers in schools with at least a first grade are also surveyed. For traditional public school districts, principals, schools, teachers, and school libraries, the survey estimates are state-representative. For public charter schools, principals, teachers, and school libraries, the survey estimates are nationally-representative. For private school principals, schools, and teachers, the survey estimates are representative of private school types. The TFS is a survey of teachers with the main purpose of providing a one-year teacher attrition rate. The PFS is a survey of principals that assesses how many school principals work in the same school as reported a year earlier in SASS:2012, how many have moved to become a principal at another school, and how many have left the principalship altogether. Similar to earlier TFS collections, the TFS:2013 sample of 7,000 teachers (drawn using a sampling design similar to that used in earlier TFS collections) is a sub-sample of the teachers who responded to SASS:2012. The PFS:2013 sample includes all of the approximately 9,800 schools whose principals completed questionnaires in SASS:2012.

DATES: Interested persons are invited to submit comments on or before September 26, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04872. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2012-13 Teacher Follow-up Survey (TFS:2013) and Principal Follow-up Survey (PFS:2013) to the Schools and Staffing Survey (SASS).

OMB Control Number: 1850-0598.

Type of Review: Revision.

Total Estimated Number of Annual Responses: 15,469.

Total Estimated Number of Annual Burden Hours: 2,876.

Abstract: This request from the National Center for Education Statistics (NCES), of the U.S. Department of Education (ED), is for clearance for the full scale data collection for the 2012-13 Teacher Follow-up Survey (TFS:2013) and Principal Follow-up Survey (PFS:2013) to the 2011-12 Schools and Staffing Survey (SASS:2012). The seventh cycle of SASS (2011-12) is currently being conducted and the proposed TFS:2013 will be the seventh corresponding cycle of TFS, while PFS:2013 will be the second cycle of PFS. The Schools and Staffing Survey (SASS) is an in-depth, nationally-representative survey of first through twelfth grade public and private school teachers, principals, schools, library media centers, and school districts. Kindergarten teachers in schools with at least a first grade are also surveyed. For traditional public school districts, principals, schools, teachers, and school libraries, the survey estimates are state-representative. For public charter schools, principals, teachers, and school libraries, the survey estimates are nationally-representative. For private school principals, schools, and teachers, the survey estimates are representative of private school types. The TFS is a survey of teachers with the main purpose of providing a one-year teacher attrition rate. The PFS is a survey of principals that assesses how many school principals work in the same school as reported a year earlier in SASS:2012, how many have moved to become a principal at another school, and how many have left the principalship altogether. Similar to earlier TFS collections, the TFS:2013 sample of 7,000 teachers (drawn using a sampling design similar to that used in earlier TFS collections) is a sub-sample of the teachers who responded to SASS:2012. The PFS:2013 sample includes all of the approximately 9,800 schools whose principals completed questionnaires in SASS:2012.

Stephanie Valentine,
Acting Director, Information Collection Clearance Division, Privacy, Information and Records Management Services, Office of Management.

[FR Doc. 2012-21045 Filed 8-24-12; 8:45 am]

BILLING CODE 4000-01-P